ENVIRONMENTAL PROTECTION AGENCY

40 CFR Part 52

[EPA-R03-OAR-2011-0491; EPA-R03-OAR-2011-0570; FRL-9453-5]

Approval and Promulgation of Air Quality Implementation Plans; Maryland; Adhesives and Sealants Rule

AGENCY: Environmental Protection Agency (EPA).

ACTION: Proposed rule.

SUMMARY: EPA is proposing to approve State Implementation Plan (SIP) revisions submitted by the State of Maryland. These SIP revisions pertain to amendments to Maryland's rule for the control of volatile organic compound (VOC) emissions from chemical production and polytetrafluoroethylene (PTFE) operations, from paint, resin, and adhesive manufacturing, and from adhesive and sealant application. These SIP revisions also pertain to an addition of a new regulation for the control of VOC emissions from adhesives and sealants. This action is being taken under the Clean Air Act (CAA).

DATES: Written comments must be received on or before September 19, 2011.

ADDRESSES: Submit your comments, identified by Docket ID Numbers EPA-R03-OAR-2011-0491 and EPA-R03-OAR-2011-0570 by one of the following methods:

A. http://www.regulations.gov. Follow the on-line instructions for submitting comments.

B. E-mail: fernandez.cristina@epa.gov.

C. Mail: EPA-R03-OAR-2011-0491 and EPA-R03-OAR-2011-0570, Cristina Fernandez, Associate Director, Office of Air Program Planning, Mailcode 3AP30, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID Nos. EPA-R03-OAR-2011-0491 and EPA-R03-OAR-2011-0570. EPA's policy is that all comments received will be included in the public docket without change, and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy during normal business hours at the Air Protection Division, U.S. Environmental Protection Agency, Region III, 1650 Arch Street, Philadelphia, Pennsylvania 19103. Copies of the State submittal are available at the Maryland Department of the Environment, 1800 Washington Boulevard, Suite 705, Baltimore, Maryland 21230.

FOR FURTHER INFORMATION CONTACT: Rose Quinto, (215) 814-2182, or by e-mail at quinto.rose@epa.gov.

SUPPLEMENTARY INFORMATION: On April 18, 2008, the Maryland Department of the Environment (MDE) submitted revisions to its SIP (Maryland SIP #08-02) regarding the control of VOC emissions from PTFE operations (amending Regulation .30 under COMAR 26.11.19) and from adhesives and sealants operations (adding Regulations .01-.07 under a new chapter, COMAR 26.11.35). On May 28, 2009, MDE submitted another revision to its SIP (Maryland SIP #09-01) amending Regulation .01 under COMAR 26.11.35. In addition, on April 23, 2010, EPA received a SIP revision (Maryland SIP #10-06) amending the control of VOC emissions from paint, resin, and adhesive manufacturing and adhesive and sealant application (Regulations .15A and .15C(4) under COMAR 26.11.19).

The SIP revisions consist of the following:

A. Amendments to Regulation .30, Control of Volatile Organic Compounds From Chemical Production and Polytetrafluoroethylene Operations Under COMAR 26.11.19 (Volatile Organic Compounds From Specific Processes)

COMAR 26.11.19.30 (Control of Volatile Organic Compounds from Chemical Production and Polytetrafluoroethylene Operations) is in the Maryland SIP. (See 40 CFR 52.1070(c) and 68 FR 33000, June 3, 2003). COMAR 26.11.19.30 sets reasonably available control technology (RACT) for: (1) Organic chemical installations which are process equipment that operate independently or in combination with other equipment reactors, distillation columns, evaporators, strippers and other similar chemical processing equipment to produce a single chemical intermediate or final product; (2) process equipment for the production of inorganic chemicals when associated with drying or product treatment equipment that involves the use of VOCs; and (3) installations that treat PTFE so that its shape or form is permanently changed and that result in VOC emissions into the air but excluding installations that apply a coating to PTFE or a PTFE product.

The amendments change the definition of PTFE to fluoropolymer material (FPM), and therefore replacing PTFE to FPM throughout COMAR 26.11.19.30. The amendments also specify that a person who owns or operates an installation subject to the requirements of COMAR 26.11.19.30 will not be subject to COMAR 26.11.35 (Control of VOC Emissions from Adhesives and Sealants) provided that monthly records are maintained which demonstrate that VOC emissions from the application of all adhesives, sealants, adhesive primers, and sealant primers do not exceed 400 pounds per year; and adhesive manufacturing does not exceed 200 pounds per year.

B. Addition of COMAR 26.11.35 (Control of VOC Emissions From Adhesives and Sealants)

The Ozone Transport Commission (OTC) States developed a Model Rule “OTC Model Rule For Adhesives and Sealants” dated 2006 which was based on the 1998 California Air Resources Board (CARB) RACT determination. This RACT determination applied to both the manufacture and use of adhesives, sealants, adhesive primers or sealant primers, in both industrial and manufacturing facilities and in the field. California Air Districts used this determination to develop regulations for this category. EPA addressed this source category with a Control Techniques Guideline (CTG) document for Miscellaneous Industrial Adhesives dated September 2008. This CTG was developed in response to section 183(e) of the CAA requirement for EPA to study and regulate consumer and commercial products, which is included in EPA's Report to Congress, “Study of Volatile Organic Compound Emissions from Consumer and Commercial Products—Comprehensive Emissions Inventory.” The section 183(e) miscellaneous industrial adhesives category was limited to adhesives and adhesive primers used in industrial and manufacturing operations and did not include products applied in the field. Therefore, the OTC Model Rule and State efforts in developing individual regulations preceded EPA's CTG for this source category and were broader in applicability.

The new Chapter COMAR 26.11.35 adds new regulations that: (a) Set standards for the application of adhesives, sealants, adhesive primers, and sealant primers by providing options for appliers either to use a product with a VOC content equal to or less than a specified limit or to use add-on controls; (b) establish standards for cleanup solvents; (c) establish a VOC limit for surface preparation solvents; (d) provide for an alternative add-on control system requirement of at least 85 percent overall control efficiency (capture and destruction), by weight; (e) provide exemptions for certain operations such as medical and defense equipment manufacturing and for small containers; (f) require simplified records of materials used and VOC content to be maintained for 5 years, with more detailed records required for noncompliant products on material usage from persons who qualify for exemptions; (g) require that VOC-containing materials must be stored or disposed of in closed containers; (h) content limits; (i) require manufacturers to label containers with the maximum VOC content as supplied, as well as the maximum VOC content on an as-applied basis when used in accordance with the manufacturer's recommendations regarding thinning, reducing, or mixing with any other VOC containing material; and (j) prohibit the specification of any adhesive, primer, or sealant that violates the provisions of the proposed regulations.

C. Amendments to Regulation .01 Under COMAR 26.11.35

These amendments exempt single-ply roof membrane installation and repair adhesives, single-ply roof membrane sealants, and single-ply roof membrane adhesive primers from standards for VOC content during non-ozone seasons for the years 2009, 2010 and 2011. In 2012, the standards for VOC content for these materials are applicable throughout the year.

D. Amendments to Regulation .15 (Paint, Resin, and Adhesive Manufacturing and Adhesive and Sealant Application) Under COMAR 26.11.19, Regulations .15A and .15C(4)

The following definitions were added to Regulation .15A: sealant, sealant application, and specialty electronic systems and subsystems for defense and homeland security. Amendments to Regulation .15C(4) repeal the general emission standard for adhesives, and establishes a RACT emission limitation for specialty electronic systems and subsystems for defense and homeland security. The amendments limit the discharge into the atmosphere to not more than 25 pounds per day of VOC from adhesive and sealant application, averaged over a monthly period.

A detailed summary of EPA's review of and rationale for proposing to approve this SIP revision may be found in the Technical Support Document (TSD) for this action which is available on line at http://www.regulations.gov, Docket numbers EPA-R03-OAR-2011-0491 and EPA-R03-OAR-2011-0570.

III. Proposed Action

EPA is proposing to approve the Maryland SIP revision amending COMAR 26.11.19.30 “Control of Volatile Organic Compounds from Chemical Production and Polytetrafluoroethylene Operations” and adding COMAR 26.11.35 “Control of VOC Emissions from Adhesives and Sealants.” EPA is also proposing to approve the Maryland SIP revisions amending Regulation .01 under COMAR 26.11.35 and Regulations .15A and .15C(4) under COMAR 26.11.19.15 “Paint, Resin, and Adhesive Manufacturing and Adhesive and Sealant Application.” EPA is soliciting public comments on the issues discussed in this document. These comments will be considered before taking final action.

IV. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely proposes to approve state law as meeting Federal requirements and does not impose additional requirements beyond those imposed by state law. For that reason, this proposed action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this proposed rule, pertaining to Maryland's control of VOCs from adhesives and sealants, does not have Tribal implications as specified by Executive Order 13175 (65 FR 67249, November 9, 2000), because the SIP is not approved to apply in Indian country located in the state, and EPA notes that it will not impose substantial direct costs on Tribal governments or preempt Tribal law.

List of Subjects in 40 CFR Part 52

Environmental protection, Air pollution control, Incorporation by reference, Ozone, Reporting and recordkeeping requirements, Volatile organic compounds.

Authority: 42 U.S.C. 7401 et seq.

Dated: August 8, 2011.
W.C. Early,
Acting Regional Administrator, Region III.

[FR Doc. 2011-21272 Filed 8-18-11; 8:45 am]

BILLING CODE 6560-50-P